NUCLEAR REGULATORY COMMISSION

Sunshine Act Meeting

AGENCY: Nuclear Regulatory Commission.

DATES: Weeks of June 21, 28, July 5, 12, 19, 26, 2004.

Place: Commissioners' Conference Room, 11555 Rockville Pike, Rockville, Maryland.

Status: Public and Closed.

Matters to be Considered:

Week of June 21, 2004

There are no meetings scheduled for the Week of June 21, 2004.

Week of June 28, 2004—Tentative

There are no meetings scheduled for the Week of June 28, 2004.

Week of July 5, 2004—Tentative

There are no meetings scheduled for the Week of July 5, 2004.

Week of July 12, 2004—Tentative

Tuesday, July 13, 2004

2:15 p.m. Discussion of Security Issues (Closed—Ex. (1)

Week of July 19, 2004—Tentative

Wednesday, July 21, 2004

9:30 a.m. Meeting with Advisory Committee on Nuclear Waste (ACNW) (Public Meeting) (Contact: John Larkins, 301-415-7360)

This meeting will be webcast live at the Web address—http:www.nrc.gov.

Week of July 26, 2004—Tentative

There are no meetings scheduled for the Week of July 26, 2004.

* The schedule for commission meetings is subject to change on short notice. To verify the status of meetings call (recording)—(301) 415-1292. Contact person for more information: Dave Gamberoni, (301) 415-1651.

* * * * *

SUPPLEMENTARY INFORMATION:

By a Vote of 3-0 on June 9, the Commission determined pursuant to U.S.C. 552b(e) and § 9.107(a) of the Commission's rules that “Affirmation of 1) Private Fuel Storage (Independent Spent Fuel Storage Installation) Docket No. 72-22-ISFSI” be held on June 9, and no less than one week's notice to the public.

By a vote of 3-0 on June 15, the Commission determined pursuant to U.S.C. 552b(e) and § 9.107(a) of the Commission's rules that “Affirmation of 1) Request to Export up to 140 Kilograms of Weapons-Grade Plutonium Oxide (PuO2) to Cogema's Cardarache and Melox Facilities in France (XSNM03327)” be held on June 15, and on less than one week's notice to the public.

* * * * *

The NRC Commission Meeting Schedule can be found on the Internet at: http://www.nrc.gov/what-we-do/policy-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-4152100, or by e-mail at aks@nrc.gov. Determinations on requests for reasonable accommodation will be made on case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 17, 2004.
R. Michelle Schroll,
Office of the Secretary.

[FR Doc. 04-14160 Filed 6-18-04; 9:47 am]

BILLING CODE 7590-01-M